DEPARTMENT OF HEALTH AND HUMAN SERVICES

Centers for Medicare & Medicaid Services

[CMS-4106-PN]

Medicare Program; Changes in Medicare Advantage Deeming Authority

AGENCY: Centers for Medicare & Medicaid Services (CMS), HHS.

ACTION: Proposed notice.

SUMMARY: This proposed notice announces that on September 26, 2005, we will begin to accept revisions from private accrediting organizations (AOs) who seek to modify their deeming authority.

EFFECTIVE DATE: This proposed notice is effective on September 26, 2005.

FOR FURTHER INFORMATION CONTACT: Shaheen Halim, 410-786-0641.

SUPPLEMENTARY INFORMATION:

I. Background

Section 4001 of the Balanced Budget Act of 1997 (BBA) (Pub. L. 105-33), enacted on August 5, 1987, added section 1852(e)(4) to the Social Security Act (the Act), which gives us the authority to determine that a Medicare Advantage (MA) organization is deemed to be in compliance with certain Medicare requirements if the MA organization has been accredited (and is periodically reaccredited) by an accrediting organization that we have determined applies and enforces requirements at least as stringent as those the MA organization would be deemed to meet. Section 518 of the Balanced Budget Refinement Act of 1999 (BBRA) (Pub. L. 106-113), enacted on November 29, 1999, amended section 1852(e)(4) of the Act to expand the scope of deeming from two to six areas. Accrediting organizations may seek authority for any of the categories. The BBRA specified that we cannot require an accrediting entity to be able to certify plans for all the deeming categories. It also required us to determine, within 210 days from the day the application is determined to be complete, the eligibility of the accrediting organizations to be granted deeming authority. Conditions and procedures for granting deeming authority to accrediting organizations are outlined in § 422.157 and § 422.158 of title 42 of the Code of Federal Regulations.

Since the start of the Medicare Deeming program, we have approved three organizations to be AOs. These consist of the National Committee for Quality Assurance, the Joint Commission on the Accreditation of Healthcare Organizations, and Accreditation Association for Ambulatory Health Care (AAAHC).

Section 722 of the Medicare Prescription Drug, Improvement, and Modernization Act of 2003 (MMA) (Pub. L. 108-173) revised section 1852(e)(4) of the Act. When we published the final rule of the Medicare Advantage program on January 28, 2005 (70 FR 4588), we made further changes to several sections of the rules that apply to the AOs. These changes consisted of the addition of the Chronic Care Improvement Program requirements (§ 422.152), and the deletion of some requirements in the areas of access and quality improvement projects. (§ 422.112 and § 422.152). Furthermore, it added prescription drug program requirements to the deemable areas. These areas include:

• Access to covered drugs, as provided under § 423.120 and § 423.124.

• Drug utilization management programs, quality assurance measures and systems, and Medication Therapy Management Programs as provided under § 423.153.

• Privacy, confidentiality, and accuracy of enrollee records, as provided under § 423.136.

• A program to protect against fraud, waste and abuse, as described in § 423.504(b)(4)(vi)(H).

II. Provisions of the Proposed Notice

This proposed notice announces that 30 days after publication, we will begin to accept applications from national private AOs who seek to modify their deeming authority. The application will consist of a letter stating how the applicant will modify their accreditation program to address the changes to the Medicare Advantage rule. At this time, we will not be adding the prescription drug program requirements to the deemable areas. Those requirements will be added at a later time. The letters should be sent to Shaheen Halim, Centers for Medicare & Medicaid Services, Mailstop C4-23-07, 7500 Security Blvd, Baltimore, MD 21244.

Authority: Section 1852(e)(4) of the Social Security Act

(Catalog of Federal Domestic Assistance Program No. 93.773, Medicare—Hospital Insurance Program; and No. 93.774, Medicare—Supplementary Medical Insurance Program (42 U.S.C. 1395w-22(e)(4)).
Dated: July 6, 2005.
Mark B. McClellan,
Administrator, Centers for Medicare & Medicaid Services.

[FR Doc. 05-16799 Filed 8-25-05; 8:45 am]

BILLING CODE 4121-01-P